DEPARTMENT OF TRANSPORTATION

Office of the Secretary

Aviation Proceedings, Agreements Filed the Week Ending November 3, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-26276.

Date Filed: November 3, 2006.

Parties: Members of the International Air Transport Association.

Subject:

CBPP/17 teleconference on 06 September 2006.

CBPP/17/Meet/003/06 dated 17 October 2006.

Finally Adopted Resolutions: 600a.

Intended effective date: 3 February 2007.

Docket Number: OST-2006-26263.

Date Filed: November 1, 2006.

Parties: Members of the International Air Transport Association.

Subject:

Mail vote 519—Resolution 002ii,

TC2 Europe between points in the ECAA,

(Memo 0642),

Mail vote 520—Resolution 002jj,

TC2 Europe except between points in the ECAA,

(Memo 0643),

Intended effective date: 1 December 2006.

Docket Number: OST-2006-26245.

Date Filed: Ocotober 31, 2006.

Parties: Members of the International Air Transport Association.

Subject:

Mail Vote 516—Resolution 010e,

TC3 Japan, Korea-South East Asia, Special Passenger Amending Resolution between Korea (Rep. of) and China excluding Hong Kong SAR and Macao SAR, Philippines (Memo 1003).

Intended effective date: 6 November 2006.

Docket Number: OST-2006-26243.

Date Filed: October 30, 2006.

Parties: Members of the International Air Transport Association.

Subject:

MAIL VOTE NUMBER A 132,

PAC2 (Mail A132),

Reporting & Remittance Cycle for Russia.

Intended effective date: 1 January 2007.

Renee V. Wright,
Program Manager, Docket Operations, Federal Register Liaison.

[FR Doc. E6-20179 Filed 11-28-06; 8:45 am]

BILLING CODE 4910-9X-P